DEPARTMENT OF HOUSING AND URBAN DEVELOPMENT

[Docket No. FR-5044-N-10]

Notice of Proposed Information Collection for Public Comment; Public Housing Assessment System; Appeals, Technical Reviews and Database Adjustments

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: August 7, 2006.

ADDRESSES: Interested persons are invited to submit comments regarding this proposal. Comments should refer to the proposal by name /or OMB Control number and should be sent to: Aneita Waites, Reports Liaison Officer, Public and Indian Housing, Department of Housing and Urban Development, 451 7th Street, SW., Room 4116, Washington, DC 20410-5000.

FOR FURTHER INFORMATION CONTACT: Aneita Waites, (202) 708-0713, extension 4114, for copies of the proposed forms and other available documents. (This is not a toll-free number).

SUPPLEMENTARY INFORMATION: The Department will submit the proposed information collection to OMB for review, as required by the Paperwork Reduction Act of 1995 (44 U.S.C. Chapter 35, as amended). This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Public Housing Assessment System (PHAS); Appeals, Technical Reviews and Database Adjustments.

OMB Control Number: Pending.

Description of the need for the information and proposed use: Pursuant to § 6(j)(2)(A)(iii) of the Act, HUD is required to establish procedures for a PHA to appeal troubled designation. The PHAS regulation at § 902.69 provides the opportunity for a PHA to appeal its troubled designation, petition for the removal of troubled designation, or appeal its score. The PHAS regulation at § 902.68 affords PHAs the opportunity to request a technical review of its physical condition inspection or a database adjustment, or a technical review of its resident satisfaction survey, if certain conditions are present. A technical review of the physical condition inspection may be requested if a PHA believes that an objectively verifiable and material error(s) occurred in the inspection of an individual property. A technical review of the resident satisfaction survey results may be requested in cases where the contracted third party survey administrator can be shown by a PHA to be in error.

Multifamily entities are also provided the opportunity to submit technical review and database adjustment requests for their physical condition score pursuant to 24 CFR parts 5 and 200, and technical reviews of resident/customer surveys for multifamily entities when such surveys are conducted.

Agency form number, if applicable: N/A.

Members of affected public: Public housing agencies.

Estimation of the total number of hours needed to prepare the information collection including number of respondents: The estimated average number of respondents is 351.5 PHAs and 496 multifamily entities that submit request for an appeal, technical review, or database adjustment for a total 847.5 PHAs and multifamily entities that submit annually. The average total reporting burden is 4,407 hours.

Status of the proposed information collection: New collection.

Authority: Section 3506 of the Paperwork Reduction Act of 1995, 44 U.S.C. Chapter 35, as amended.

Dated: May 31, 2006.
Bessy Kong,
Director, Policy, Program and Legislative Initiatives.

[FR Doc. E6-8767 Filed 6-6-06; 8:45 am]

BILLING CODE 4210-67-P